DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of November 2, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Colquitt County, Georgia and Incorporated Areas
Docket No.: FEMA-B-2238
City of Moultrie | Municipal Annex, 200 1st Street Northeast, Moultrie, GA 31768.
City of Norman Park | City Hall, 154 East Broad Street, Norman Park, GA 31771.
Town of Ellenton | Town Hall, 103 North Baker Street, Ellenton, GA 31747.
Unincorporated Areas of Colquitt County | Colquitt County Courthouse Annex, 101 East Central Avenue, 1st Floor, Room 109, Moultrie, GA 31768.
Cook County, Georgia and Incorporated Areas
Docket No.: FEMA-B-2238
City of Adel | City Hall, 112 North Parrish Avenue, Adel, GA 31620.
City of Cecil | City Hall, 134 Roundtree Street, Cecil, GA 31627.
City of Lenox | City Hall, 15 East Colquitt Avenue, Lenox, GA 31637.
Town of Sparks | City Hall, 115 East Colquitt Street, Sparks, GA 31647.
Unincorporated Areas of Cook County | Cook County Administration Building, 1200 South Hutchinson Avenue, Adel, GA 31620.
Baltimore County, Maryland (Unincorporated Areas)
Docket No.: FEMA-B-2131
Unincorporated Areas of Baltimore County | Baltimore County Office Building, 111 West Chesapeake Avenue, Room 205, Towson, MD 21204.
Christian County, Missouri and Incorporated Areas
Docket No.: FEMA-B-2031 and FEMA-B-2200
City of Billings | City Hall, 202 Northeast US Highway 60, Billings, MO 65610.
City of Clever | City Hall, 304 South Clarke Avenue, Clever, MO 65631.
City of Fremont Hills | City Hall, 1953 Fremont Hills Drive, Fremont Hills, MO 65714.
City of Highlandville | City Office, 216 Kentling Avenue, Highlandville, MO 65669.
City of Nixa | City Hall, 715 West Mount Vernon Street, Nixa, MO 65714.
City of Ozark | City Hall, 205 North 1st Street, Ozark, MO 65721.
City of Sparta | City Hall, 200 North Avenue, Sparta, MO 65753.
Unincorporated Areas of Christian County | Christian County Resource Management Building, 1106 West Jackson Street, Ozark, MO 65721.
Village of Saddlebrooke | Village Hall, 776 Saddlebrooke Drive, Suite A-1, Saddlebrooke, MO 65630.
Wright County, Missouri and Incorporated Areas
Docket No.: FEMA-B-2233
City of Hartville | City Hall, 200 South Main Avenue, Hartville, MO 65667.
City of Mansfield | City Hall, 122 North Business 60, Mansfield, MO 65704.
City of Mountain Grove | City Hall, 100 East State Street, Mountain Grove, MO 65711.
Unincorporated Areas of Wright County | Wright County Courthouse, 125 Court Square, Hartville, MO 65667.
Clark County, Washington and Incorporated Areas
Docket No.: FEMA-B-2173
City of La Center | Public Works Department, 305 Northwest Pacific Highway, La Center, WA 98629.
City of Vancouver | City Hall, 415 West 6th Street, 2nd Floor, Vancouver, WA 98660.
Town of Yacolt | Town Hall, 202 West Cushman Street, Yacolt, WA 98675.
Unincorporated Areas of Clark County | Clark County Public Service Center, 1300 Franklin Street, Vancouver, WA 98660.

[FR Doc. 2023-12475 Filed 6-9-23; 8:45 am]

BILLING CODE 9110-12-P